NATIONAL ARCHIVES AND RECORDS ADMINISTRATION

Information Security Oversight Office

National Industrial Security Program Policy Advisory Committee (NISPPAC)

AGENCY: Information Security Oversight Office, National Archives and Records Administration.

ACTION: Notice of meeting.

SUMMARY: In accordance with the Federal Advisory Committee Act (5 U.S.C. app 2) and implementing regulation 41 CFR 101-6, announcement is made for the following committee meeting to discuss National Industrial Security Program policy matters.

DATES: The meeting will be held on June 20, 2011 from 1 p.m. to 3 p.m.

ADDRESSES: Hilton Riverside Hotel, Two Poydras Street, Belle Chasse—Third Floor, New Orleans, LA 70130.

SUPPLEMENTARY INFORMATION: This meeting will be open to the public. However, due to space limitations and access procedures, the name and telephone number of individuals planning to attend must be submitted to the Information Security Oversight Office (ISOO) no later than June 13, 2011. ISOO will provide additional instructions for gaining access to the location of the meeting.

FOR FURTHER INFORMATION CONTACT: David O. Best, Senior Program Analyst, ISOO, National Archives Building, 700 Pennsylvania Avenue, NW., Washington, DC 20408, telephone number (202) 357-5123, or at david.best@nara.gov; Daniel J. Livingstone, Program Analyst, ISOO at (202) 357-5474 or dan.livingstone@nara.gov; Robert L. Tringali, Program Analyst, ISOO at (202) 357-5335 or robert.tringali@nara.gov. Contact ISOO at ISOO@nara.gov and the NISPPAC at NISPPAC@nara.gov.

Dated: May 10, 2011.
Mary Ann Hadyka,
Committee Management Officer.

[FR Doc. 2011-11918 Filed 5-12-11; 8:45 am]

BILLING CODE 7515-01-P